SECURITIES AND EXCHANGE COMMISSION

[File No. 500-1]

In the Matter of Breitling Energy Corporation; Order of Suspension of Trading

June 24, 2016.

It appears to the Securities and Exchange Commission (“SEC”) that there is a lack of current and accurate information concerning the securities of Breitling Energy Corporation (“BECC”) (CIK No. 0001229089) because of questions regarding the accuracy of assertions by BECC, a Nevada corporation whose principal place of business is listed as Dallas, and by others, in public reports filed with the SEC and press releases concerning, among other things: (1) The company's assets; (2) the company's business transactions; and (3) the company's current financial condition. BECC's common stock is quoted on OTC Link operated by OTC Markets Group, Inc. under the ticker symbol BECC.

The Commission is of the opinion that the public interest and the protection of investors require a suspension of trading in the securities of the above-listed company.

THEREFORE, IT IS ORDERED, pursuant to Section 12(k) of the Securities Exchange Act of 1934, that trading in the securities of the above-listed company is suspended for the period from 9:30 a.m. EDT, on June 24, 2016 through 11:59 p.m. EDT, on July 8, 2016.

By the Commission.
Jill M. Peterson,
Assistant Secretary.

[FR Doc. 2016-15377 Filed 6-24-16; 8:45 am]

BILLING CODE 8011-01-P